DEPARTMENT OF COMMERCE

International Trade Administration

[A-552-802]

Certain Frozen Warmwater Shrimp From the Socialist Republic of Vietnam: Preliminary Results of Antidumping Duty Administrative Review; 2013-2014

AGENCY: Enforcement and Compliance, International Trade Administration, Department of Commerce.

SUMMARY: In response to requests from interested parties, the Department of Commerce (“Department”) is conducting the administrative review of the antidumping duty order on certain frozen warmwater shrimp from the Socialist Republic of Vietnam (“Vietnam”) for the period of review February 1, 2013, through January 31, 2014. The Department selected three mandatory respondents based on a sampling methodology, using the information available at the time of selection.¹ The Department preliminarily determines that sales of subject merchandise by the Minh Phu Group ² and Thuan Phuoc ³ were made below normal value (“NV”). The Department preliminarily determines that sales of subject merchandise by Fimex VN ⁴ were not made below NV. Interested parties are invited to comment on these preliminary results.

¹ See Memorandum to: James Doyle, Director Antidumping and Countervailing Duty Operations, From: Alexis Polovina, International Trade Compliance Analyst, Office V Enforcement and Compliance, Re: Antidumping Duty Administrative Review of Certain Frozen Warmwater Shrimp from the Socialist Republic of Vietnam: Respondent Selection Methodology and Sampling Pool for Selection of Respondents, dated October 3, 2014.

² Minh Phu Seafood Corporation, Minh Qui Seafood Co., Ltd., Minh Phat Seafood Co., Ltd., and Minh Phu Hau Giang Seafood Co., Ltd. (collectively, the “Minh Phu Group”).

³ Thuan Phuoc Seafoods and Trading Corporation (“Thuan Phuoc”).

⁴ Sao Ta Foods Joint Stock Company (“Fimex VN”).

DATES: Effective Date: March 9, 2015.

FOR FURTHER INFORMATION CONTACT: Bob Palmer, Irene Gorelik, or Alexis Polovina, AD/CVD Operations, Office V, Enforcement and Compliance, International Trade Administration, Department of Commerce, 14th Street and Constitution Avenue NW., Washington, DC 20230; telephone: (202) 482-9068, (202) 482-6905, (202) 482-3927, respectively.

SUPPLEMENTARY INFORMATION:

Scope of the Order

The merchandise subject to the Order ⁵ is certain frozen warmwater shrimp. The product is currently classified under the following Harmonized Tariff Schedule of the United States (HTSUS) item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. Although the HTSUS numbers are provided for convenience and for customs purposes, the written product description, available in the Preliminary Decision Memorandum, remains dispositive.⁶

⁵ See Certain Frozen Warmwater Shrimp From Brazil, India, the People's Republic of China, Thailand, and the Socialist Republic of Vietnam: Amended Antidumping Duty Orders in Accordance with Final Court Decision, 76 FR 23277 (April 26, 2011) (“Order”).

⁶ For a complete description of the Scope of the Order, see Memorandum to Paul Piquado, Assistant Secretary for Enforcement and Compliance, from Christian Marsh, Deputy Assistant Secretary for Antidumping and Countervailing Duty Operations, titled “Decision Memorandum for Preliminary Results of Antidumping Duty Administrative Review: Certain Frozen Warmwater Shrimp from the Socialist Republic of Vietnam; 2013-2014,” dated concurrently with and adopted by this notice (“Preliminary Decision Memorandum”).

Methodology

The Department conducted this review in accordance with section 751(a)(1)(A) of the Tariff Act of 1930, as amended (“the Act”). Constructed export prices and export prices were calculated in accordance with section 772 of the Act. Because Vietnam is a nonmarket economy within the meaning of section 771(18) of the Act, NV was calculated in accordance with section 773(c) of the Act.

For a full description of the methodology underlying our conclusions, see Preliminary Decision Memorandum. The Preliminary Decision Memorandum is a public document and is on file electronically via the Enforcement and Compliance's Antidumping and Countervailing Duty Centralized Electronic Service System (“ACCESS”).⁷ ACCESS is available to registered users at http://access.trade.gov and in the Central Records Unit, room 7046 of the main Department of Commerce building. In addition, a complete version of the Preliminary Decision Memorandum can be accessed directly on the internet at http://enforcement.trade.gov/frn/. The signed Preliminary Decision Memorandum and the electronic versions of the Preliminary Decision Memorandum are identical in content.

⁷ On November 24, 2014, Enforcement and Compliance changed the name of Enforcement and Compliance's AD and CVD Centralized Electronic Service System (“IA ACCESS”) to AD and CVD Centralized Electronic Service System (“ACCESS”). The Web site location was changed from http://iaaccess.trade.gov to http://access.trade.gov. The Final Rule changing the references to the Regulations can be found at 79 FR 69046 (November 20, 2014).

Preliminary Determination of No Shipments

Based on our analysis of U.S. Customs and Border Protection (“CBP”) information and information provided by a number of companies, we preliminarily determine that eight companies ⁸ did not have any reviewable transactions during the POR. In addition, the Department finds, consistent with its refinement to its assessment practice in non-market economy cases, that it is appropriate not to rescind the review in part in these circumstances, but to complete the review with respect to these eight companies and issue appropriate instructions to CBP based on the final results of the review.⁹ For additional information regarding this determination, see the Preliminary Decision Memorandum.

⁸ These eight companies are: (1) Bien Dong Seafood Co., Ltd. (“Bien Dong”); (2) BIM Foods Joint Stock Company; (3) Cafatex Fishery Joint Stock Corporation; (4) Camau Seafood Processing and Service Joint-stock Corporation (“CASES”); (5) Camranh Seafoods Co., Ltd.; (6) Nhat Duc Co., Ltd.; (7) Phu Cuong Jostco Seafood Corporation; and (8) Seavina Joint Stock Company (“Seavina”).

⁹ See Non-Market Economy Antidumping Proceedings: Assessment of Antidumping Duties, 76 FR 65694 (October 24, 2011) (“Assessment Notice”); see also “Assessment Rates” section below.

Preliminary Results of Review

The Department finds that 56 companies for which a review was requested have not established eligibility for a separate rate and, thus, they are considered to be part of the Vietnam-wide entity for these preliminary results.¹⁰ The Department's change in policy regarding conditional review of the Vietnam-wide entity applies to this administrative review.¹¹ Under this policy, the Vietnam-wide entity will not be under review unless a party specifically requests, or the Department self-initiates, a review of the entity. Because no party requested a review of the Vietnam-wide entity, the entity is not under review and the entity's rate is not subject to change. For companies for which a review was requested and that have established eligibility for a separate rate, the Department preliminarily determines that the following weighted-average dumping margins exist:

¹⁰ See Appendix II for a full list of the 56 companies; see also Preliminary Decision Memorandum, at 9-10.

¹¹ Antidumping Proceedings: Announcement of Change in Department Practice for Respondent Selection in Antidumping Duty Proceedings and Conditional Review of the Nonmarket Economy Entity in NME Antidumping Duty Proceedings, 78 FR 65963 (November 4, 2013).

¹² Due to the issues we have had in the past with variations of exporter names related to this Order, we remind exporters that the names listed below are the exact names, including spelling and punctuation which the Department will provide to CBP and which CBP will use to assess POR entries and collect cash deposits.

¹³ The Department previously collapsed the companies within the Minh Phu Group in the sixth administrative review. See Certain Frozen Warmwater Shrimp From the Socialist Republic of Vietnam: Preliminary Results of Administrative Review, 77 FR 13547, 13549 (March 7, 2012), unchanged in Certain Frozen Warmwater Shrimp From the Socialist Republic of Vietnam: Final Results and Final Partial Rescission of Antidumping Duty Administrative Review, 77 FR 55800 (September 11, 2012). In this review, the Department reevaluated the collapsed entity based on a corporate structure and name change of one of the collapsed companies, Minh Phu Hau Giang Seafood Co., Ltd. See “Memorandum to the File, through Catherine Bertrand, Program Manager, Office V, from Irene Gorelik, Senior Analyst, Office V, re; Collapsing Determination for the Minh Phu Seafood Corporation and its Affiliates, with Minh Phu Hau Giang Seafood Joint Stock Company,” dated concurrently with this notice. In this memorandum, the Department found that Minh Phu Hau Giang Seafood Joint Stock Company is affiliated with the the Minh Phu Group group of companies, and that they comprise a single entity. Therefore, we will assign this rate to the companies in the single entity. The company name and trade names formerly used by Minh Phu Hau Giang Seafood Joint Stock Company have not been included above, for cash deposit purposes, based on the business license submitted on the record. However, the former names will be included for liquidation purposes at the conclusion of this review.

Exporter ¹² | Weighted-average margin (percent)
Minh Phu Group: ¹³ | 1.50
Minh Phu Seafood Corp., aka
Minh Phu Seafood Corporation, aka
Minh Phu Seafood Pte, aka
Minh Phat Seafood Co., Ltd., aka
Minh Qui Seafood Co., Ltd., aka
Minh Qui Seafood, aka
Minh Phu Hau Giang Seafood Joint Stock Company
Sao Ta Foods Joint Stock Company (“Fimex VN”), aka | 0.00
Sao Ta Foods Joint Stock Company, aka
Fimex VN, aka
Sao Ta Seafood Factory, aka
Saota Seafood Factory
Thuan Phuoc Seafoods and Trading Corporation, aka | 1.06
Thuan Phuoc Corp., aka
Frozen Seafoods Factory No. 32, aka
Seafoods and Foodstuff Factory, aka
Seafoods and Foodstuff Factory Vietnam, aka
My Son Seafoods Factory
Bac Lieu Fisheries Joint Stock Company, aka | 0.93
Bac Lieu Fisheries Company Limited, aka
Bac Lieu Fisheries Co., Ltd., aka
Bac Lieu Fisheries Limited Company, aka
Bac Lieu Fis
Bentre Forestry and Aquaproduct Import-Export Joint Stock Company, aka | 0.93
FAQUIMEX
Camau Frozen Seafood Processing Import Export Corporation, aka | 0.93
Camimex, aka
Camau Seafood Factory No. 4, aka
Camau Seafood Factory No. 5, aka
Camau Frozen Seafood Processing Import Export Corp. (CAMIMEX-FAC 25), aka
Frozen Factory No. 4
C.P. Vietnam Corporation, aka | 0.93
C.P. Vietnam Livestock Corporation, aka
C.P. Vietnam Livestock Company Limited, aka
C.P. Vietnam
Cadovimex Seafood Import-Export and Processing Joint Stock Company, aka | 0.93
Cai Doi Vam Seafood Import-Export Company, aka
Caidoivam Seafood Company (Cadovimex), aka
Cadovimex-Vietnam
Can Tho Import Export Fishery Limited Company, aka | 0.93
CAFISH
Fine Foods Co., aka | 0.93
FFC
Cuu Long Seaproducts Company, aka | 0.93
Cuulong Seaproducts Company
Cuu Long Seaproducts Limited, aka
Cuulong Seapro aka
Cuu Long Seapro
Gallant Ocean (Vietnam) Co., Ltd | 0.93
Gallant Dachan Seafood Co., Ltd | 0.93
Goldenquality Seafood Corporation | 0.93
Hai Viet Corporation, aka | 0.93
HAVICO
Investment Commerce Fisheries Corporation, aka | 0.93
Investment Commerce Fisheries Corp., aka
Investment Commerce Fisheries, aka
Incomfish, aka
Incomfish Corp., aka
Incomfish Corporation
Kim Anh Company Limited, aka | 0.93
Kim Anh Co, Ltd.
Minh Cuong Seafood Import Export Frozen Processing Joint Stock Co, aka | 0.93
Minh Cuong Seafood Import- Export Processing, aka
MC Seafood
Minh Hai Export Frozen Seafood Processing Joint-Stock Company, aka | 0.93
Minh Hai Jostoco
Minh Hai Joint-Stock Seafoods Processing Company, aka | 0.93
Seaprodex Minh Hai, aka
Sea Minh Hai, aka
Seaprodex Min Hai, aka
Seaprodex Minh Hai-Factory No. 78, aka
Seaprodex Minh Hai (Minh Hai Joint Stock Seafoods Processing Co.), aka
Seaprodex Minh Hai Workshop 1, aka
Seaprodex Minh Hai Factory No. 69
Minh Hai Sea Products Import Export Company, aka | 0.93
Ca Mau Seafood Joint Stock Company, aka
Seaprimexco Vietnam, aka
Seaprimexco
Nha Trang Fisheries Joint Stock Company, aka | 0.93
Nha Trang Fisco aka
Nhatrang Fisco, aka
Nha Trang Fisheries, Joint Stock
Nha Trang Seafoods Group: | 0.93
Nha Trang Seaproduct Company, aka
Nha Trang Seafoods, aka
NT Seafoods Corporation, aka
NT Seafoods, aka
Nha Trang Seafoods—F89 Joint Stock Company, aka
Nha Trang Seafoods—F89, aka
NTSF Seafoods Joint Stock Company, aka
NTSF Seafoods
Ngoc Tri Seafood Joint Stock Company, aka | 0.93
Ngoc Tri Seafood Company
Phuong Nam Foodstuff Corp., aka | 0.93
Phuong Nam Co., Ltd., aka
Phuong Nam Foodstuff Product Processing Joint Stock Corporation, aka
Phuong Namco-Ltd
Quoc Viet Seaproducts Processing Trading and Import-Export Co., Ltd | 0.93
Soc Trang Seafood Joint Stock Company, aka | 0.93
Stapimex, aka
Soc Trang Aquatic Products and General Import Export Company, aka
Soc Trang Aquatic Products and General Import Export Company (“Stapimex”), aka
Stapmex
Tacvan Frozen Seafood Processing Export Company, aka | 0.93
Tacvan Seafoods Co.
Tan Phong Phu Seafoods Co., Ltd | 0.93
Thong Thuan Company Limited, aka | 0.93
T&T Co., Ltd
UTXI Aquatic Products Processing Corporation, aka | 0.93
UT XI Aquatic Products Processing Corporation, aka
UTXI Aquatic Products Processing Company, aka
UT XI Aquatic Products Processing Company, aka
UTXI Co. Ltd., aka
UTXI, aka
UTXICO, aka
Hoang Phuong Seafood Factory, aka
Hoang Phong Seafood Factory
Viet Foods Co., Ltd., aka | 0.93
Nam Hai Foodstuff and Export Company Ltd.
Vietnam Clean Seafood Corporation, aka | 0.93
Vina Cleanfood
Viet Hai Seafood Co., Ltd., aka | 0.93
Vietnam Fish One Co., Ltd.
Viet I-Mei Frozen Foods Co., Ltd | 0.93

Disclosure and Public Comment

The Department will disclose the calculations used in our analysis to parties in this review within five days of the date of publication of this notice. The Department intends to verify the information upon which we will rely for the final results. As such, the Department will establish the briefing schedule at a later time, and will notify parties of the schedule in accordance with 19 CFR 351.309. Parties who submit case briefs or rebuttal briefs are requested to submit with the argument: (1) A statement of the issue; (2) a brief summary of the argument; and (3) a table of authorities.¹⁴ Rebuttal briefs must be limited to issues raised in the case briefs.¹⁵

¹⁴ See 19 CFR 351.309(c) and (d).

¹⁵ See 19 CFR 351.309(d)(2).

Interested parties who wish to request a hearing, or to participate if one is requested, must submit a written request to the Assistant Secretary for Enforcement and Compliance, U.S. Department of Commerce, filed electronically using ACCESS. An electronically filed document must be received successfully in its entirety in ACCESS, by 5 p.m. Eastern Time within 30 days after the date of publication of this notice.¹⁶ Requests should contain the party's name, address, and telephone number, the number of participants, and a list of the issues to be discussed. If a request for a hearing is made, the Department will inform parties of the scheduled date for the hearing which will be held at the U.S. Department of Commerce, 14th Street and Constitution Avenue NW., Washington, DC 20230, at a time and location to be determined. Parties should confirm by telephone the date, time, and location of the hearing. Interested parties are invited to comment on the preliminary results of this review.

¹⁶ See 19 CFR 351.310(c).

The Department intends to issue the final results of this administrative review, including the results of our analysis of issues raised in the written comments, within 120 days of publication of these preliminary results in the Federal Register.

Assessment Rates

Upon issuance of the final results, the Department will determine, and CBP shall assess, antidumping duties on all appropriate entries covered by this review.¹⁷ The Department intends to issue assessment instructions to CBP 15 days after the publication date of the final results of this review. For any individually examined respondent whose weighted average dumping margin is above de minimis (i.e., is 0.50 percent or more) in the final results of this review, the Department will calculate importer-specific assessment rates on the basis of the ratio of the total amount of dumping calculated for the importer's examined sales and the total entered value of sales, in accordance with 19 CFR 351.212(b)(1).¹⁸ We will instruct CBP to assess antidumping duties on all appropriate entries covered by this review when the importer-specific assessment rate calculated in the final results of this review is above de minimis. Where either the respondent's weighted-average dumping margin is zero or de minimis, or an importer-specific assessment rate is zero or de minimis, we will instruct CBP to liquidate the appropriate entries without regard to antidumping duties. For the final results, if we continue to treat the 56 companies identified above as part of the Vietnam-wide entity, we will instruct CBP to apply an ad valorem assessment rate of 25.76 percent to all entries of subject merchandise during the POR which were produced and/or exported by those companies. The Department recently announced a refinement to its assessment practice in non-market economy cases. Pursuant to this refinement in practice, for entries that were not reported in the U.S. sales databases submitted by companies individually examined during this review, the Department will instruct CBP to liquidate such entries at the Vietnam-wide rate. Additionally, if the Department determines that an exporter had no shipments of the subject merchandise, any suspended entries that entered under that exporter's case number (i.e., at that exporter's rate) will be liquidated at the Vietnam-wide rate.¹⁹

¹⁷ See 19 CFR 351.212(b).

¹⁸ In these preliminary results, the Department applied the assessment rate calculation method adopted in Antidumping Proceedings: Calculation of the Weighted-Average Dumping Margin and Assessment Rate in Certain Antidumping Proceedings; Final Modification, 77 FR 8101 (February 14, 2012).

¹⁹ For a full discussion of this practice, see Assessment Notice.

The final results of this review shall be the basis for the assessment of antidumping duties on entries of merchandise covered by the final results of this review and for future deposits of estimated duties, where applicable.

Cash Deposit Requirements

The following cash deposit requirements will be effective upon publication of the final results of this administrative review for shipments of the subject merchandise from Vietnam entered, or withdrawn from warehouse, for consumption on or after the publication date, as provided by sections 751(a)(2)(C) of the Act: (1) For the companies listed above, which have a separate rate, the cash deposit rate will be that established in the final results of this review (except, if the rate is zero or de minimis, then zero cash deposit will be required); (2) for previously investigated or reviewed Vietnam and non-Vietnam exporters not listed above that received a separate rate in a prior segment of this proceeding, the cash deposit rate will continue to be the existing exporter-specific rate; (3) for all Vietnam exporters of subject merchandise that have not been found to be entitled to a separate rate, the cash deposit rate will be the existing rate for the Vietnam-wide entity of 25.76 percent; and (4) for all non-Vietnam exporters of subject merchandise which have not received their own rate, the cash deposit rate will be the rate applicable to the Vietnam exporter that supplied that non-Vietnam exporter. These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

This determination is issued and published in accordance with sections 751(a)(1) and 777(i)(1) of the Act and 19 CFR 351.221(b)(4).

Dated: March 2, 2015.
Paul Piquado,
Assistant Secretary, for Enforcement and Compliance.

Appendix I—List of Topics Discussed in the Preliminary Decision Memorandum

1. Summary

2. Background

3. Extension of Preliminary Results

4. Respondent Selection

5. Scope of the Order

6. Preliminary Determination of No Shipments

7. Non-Market Economy Country

8. Separate Rates

9. Sample Rate Calculation

10. Vietnam-Wide Entity

11. Affiliation and Collapsing

12. Surrogate Country and Surrogate Value Data

13. Surrogate Country

14. Economic Comparability

15. Significant Producers of Comparable Merchandise

16. Data Availability

17. Public Availability and Broad-Market Average

18. Specificity

19. Contemporaneity and Tax and Duty Exclusive

20. Date of Sale

21. Determination of Comparison Method

22. Results of the Differential Pricing Analysis

23. U.S. Price

24. Normal Value

25. Factor Valuations

26. Currency Conversion

Appendix II—Companies Subject To Review Determined To Be Part of the Vietnam-Wide Entity

1. An Giang Coffee JSC

2. Agrex Saigon

3. Amanda Foods (Vietnam) Ltd.

Amanda Seafood Co., Ltd.

4. Amanda Foods (Vietnam) Ltd. Ngoc Tri Seafood Company (Amanda's affiliate)

5. Anvifish Joint Stock Co.

6. Binh An Seafood Joint Stock Company

7. Camimex Seafood Company Limited

8. Ca Mau Foods and Fishery Export Joint Stock Company

9. Can Tho Agricultural and Animal Products Import Export Company, aka,

Can Tho Agricultural Products, aka

Can Tho Agricultural and Animal Products Imex Company, aka

CATACO, aka

Can Tho Agricultural and Animal Product Import Export Company (“CATACO”), aka

Can Tho Agricultural and Animal Product Import Export Company (“CATACO”) and/or

Can Tho Agricultural and Animal Products Import Export Company (“CATACO'”), aka

Can Tho Agricultural & Animal Product Import Export Company (“CATACO'”) and/or

Can Tho Agricultural and Animal Products Import Export Company (“CATACO”)

10. Can Tho Import Export Seafood Joint Stock Company, aka

CASEAMEX

11. Cau Tre Enterprise (C.T.E.)

12. Cautre Export Goods Processing Joint Stock Company

13. Chang Shin Vietnam Co., Ltd.

14. CL Fish Co., Ltd. (Cuu Long Fish Company)

15. Cautre Export Goods Processing Joint Stock Company

16. Coastal Fisheries Development Corporation

Coastal Fisheries Development Corporation (“COFIDEC”)

Coastal Fisheries Development Corporation (“Cofidec”)

Coastal Fishery Development

COFIDEC

17. D & N Foods Processing (Danang Company Ltd.)

18. Danang Seaproduct Import-Export Corporation (“Seaprodex Danang”) (and its affiliates)

Danang Seaproducts Import Export Corporation

Danang Seaproducts Import Export Corporation (“Seaprodex Danang”)

Danang Seaproducts Import-Export Corporation (and its affilliate, Tho Quang Seafood Processing and Export Company) (collectively “Seaprodex Danang”)

Tho Quang

Tho Quang Co.

Tho Quang Seafood Processing and Export Company

Tho Quang Seafood Processing & Export Company

Seaprodex Danang

19. Duy Dai Corporation

20. Gallant Ocean (Quang Ngai) Co., Ltd.

21. Gn Foods

22. Hai Thanh Food Company Ltd.

23. Hai Vuong Co., Ltd.

24. Hoa Phat Aquatic Products Processing And Trading Service Co., Ltd.

25. Hoang Hai Company Ltd.

26. Hua Heong Food Industries Vietnam Co. Ltd.

27. Interfood Shareholding Co.

28. Khanh Loi Seafood Factory

29. Kien Long Seafoods Co. Ltd.

30. Luan Vo Fishery Co., Ltd.

31. Lucky Shining Co., Ltd.

32. Minh Chau Imp. Exp. Seafood Processing Co., Ltd.

33. Mp Consol Co., Ltd.

34. Ngoc Chau Co., Ltd. and/or Ngoc Chau Seafood Processing Company

35. Ngoc Sinh

Ngoc Sinh Seafoods Processing and Trading Enterprise

Ngoc Sinh Fisheries

Ngoc Sinh Private

Ngoc Sinh Private Enterprises

Ngoc Sinh Seafood Processing Company

Ngoc Sinh Seafood Trading & Processing

Ngoc Sinh Seafood Trading & Processing Enterprise

Ngoc Sinh Seafoods

Ngoc Sinh Seafoods (Private Enterprise)

Ngoc Sinh Seafoods Processing and Trading Enterprises

36. Ngo Bros Seaproducts Import-Export One Member Company Limited (“Ngo Bros”)

37. Quang Ninh Export Aquatic Products Processing Factory

38. Quang Ninh Seaproducts Factory

39. S.R.V. Freight Services Co., Ltd.

40. Sustainable Seafood

41. Tai Kim Anh Seafood Joint Stock Company

42. Tan Thang Loi Frozen Food Co., Ltd.

43. Thanh Doan Seaproducts Import & Export Processing Joint-Stock Company (THADIMEXCO)

44. Thanh Hung Frozen Seafood Processing Import Export Co., Ltd.

45. Thanh Tri Seafood Processing Co. Ltd.

46. The Quang Co.

47. The Quang Seafood Processing & Export Company

48. Thong Thuan-Cam Ranh Seafood Joint Stock Company

49. Tien Tien Garment Joint Stock Company

50. Tithi Co., Ltd.

51. Trang Corporation

52. Viet Cuong Seafood Processing Import Export Joint-Stock Company

Viet Cuong Seafood Processing Import Export

53. Vietnam Northern Viking Technologies Co. Ltd.

54. Vinatex Danang

55. Vinh Hoan Corp.

56. Vinh Loi Import Export Company (“Vimexco”), aka

Vinh Loi Import Export Company (“VIMEX”), aka

VIMEXCO aka

VIMEX aka

Vinh Loi Import/Export Co., aka

Vinhloi Import Export Company aka

Vinh Loi Import-Export Company

Vinh Loi Import Export Company (“Vimexco”) and/or Vinh Loi Import Export Company (“VIMEX”)

[FR Doc. 2015-05474 Filed 3-6-15; 8:45 am]

BILLING CODE 3510-DS-P